DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-0361.

Project: National Survey of Substance Abuse Treatment Services (N-SSATS) (OMB No. 0930-0106)—Extension

The Substance Abuse and Mental Health Services Administration (SAMHSA) is requesting an extension of the National Survey of Substance Abuse Treatment (N-SSATS) data collection (OMB No. 0930-0106), which expires on September 30, 2020. N-SSATS provides both national and state-level data on the numbers and types of patients treated and the characteristics of facilities providing substance abuse treatment services. It is conducted under the authority of Section 505 of the Public Health Service Act (42 U.S.C. 290aa-4) to meet the specific mandates for annual information about public and private substance abuse treatment providers and the clients they serve.

This request includes:

• Collection of N-SSATS, which is an annual survey of substance abuse treatment facilities; and

• Updating of the Inventory of Behavioral Health Services (I-BHS) which is the facility universe for the N-SSATS. I-BHS is also the facility universe for the annual survey of mental health treatment facilities, the National Mental Health Services Survey (N-MHSS). I-BHS includes all substance abuse treatment and mental health treatment facilities known to SAMHSA. (The N-MHSS data collection is covered under OMB No. 0930-0119.)

The information in I-BHS and N-SSATS is needed to assess the nature and extent of these resources, to identify gaps in services, and to provide a database for treatment referrals. Both I-BHS and N-SSATS are components of the Behavioral Health Services Information System (BHSIS).

The request for OMB approval will include a request to update the I-BHS facility listing on a continuous basis and to conduct the N-SSATS and the between cycle N-SSATS (N-SSATS BC) in 2021, 2022, and 2023. The N-SSATS BC is a procedure for collecting services data from newly identified facilities between main cycles of the survey and will be used to improve the listing of treatment facilities in the online Behavioral Health Treatment Services Locator.

Estimated annual burden for the BHSIS activities is shown below:

Type of respondent and activity | Number of respondents | Responses per respondent | Total responses | Hours per response | Total burden hours
States:
I-BHS Online ¹ | 56 | 75 | 4,200 | 0.08 | 336
State Subtotal | 56 |  | 4,200 |  | 336
Facilities:
I-BHS application ² | 800 | 1 | 800 | 0.08 | 64
Augmentation screener | 1,300 | 1 | 1,300 | 0.08 | 104
N-SSATS questionnaire | 17,000 | 1 | 17,000 | 0.67 | 11,333
N-SSATS BC | 1,000 | 1 | 1,000 | 0.58 | 580
Facility Subtotal | 20,100 |  | 20,100 |  | 12,081
Total | 20,156 |  | 24,300 |  | 12,417
¹ States use the I-BHS Online system to submit information on newly licensed/approved facilities and on changes in facility name, address, status, etc.
² New facilities complete and submit the online I-BHS application form in order to get listed on the Inventory.

Written comments and recommendations for the proposed information collection should be sent within 30 days of publication of this notice to www.reginfo.gov/public/do/PRAMain. Find this particular information collection by selecting “Currently under 30-day Review—Open for Public Comments” or by using the search function.

Carlos Graham,
Social Science Analyst.

[FR Doc. 2020-12031 Filed 6-3-20; 8:45 am]

BILLING CODE 4162-20-P